DEPARTMENT OF COMMERCE

International Trade Administration

[A-449-804; A-455-803; A-560-811; A-570-860; A-822-804; A-823-809; A-841-804]

Steel Concrete Reinforcing Bars From Belarus, Indonesia, Latvia, Moldova, Poland, People's Republic of China and Ukraine: Final Results of the Expedited Second Sunset Reviews of the Antidumping Duty Orders

AGENCY: Import Administration, International Trade Administration, Department of Commerce.

DATES: Effective Date: November 23, 2012.

SUMMARY: On July 2, 2012, the Department of Commerce (“Department”) initiated the second Sunset Reviews of the antidumping duty orders on steel concrete reinforcing bars from Belarus, Indonesia, Latvia, Moldova, Poland, the People's Republic of China and Ukraine. The Department finds that revocation of these antidumping duty orders would be likely to lead to continuation or recurrence of dumping at the margins identified in the “Final Results of Reviews” section of this notice.

FOR FURTHER INFORMATION CONTACT: Mahnaz Khan or David Layton, AD/CVD Operations, Office 1, Import Administration, International Trade Administration, U.S. Department of Commerce, 14th Street and Constitution Avenue NW., Washington, DC 20230; telephone (202) 482-0914 and (202) 482-0371, respectively.

SUPPLEMENTARY INFORMATION:

Background

The antidumping duty orders on steel concrete reinforcing bars from Belarus, Indonesia, Latvia, Moldova, the People's Republic of China (“PRC”), Poland, and Ukraine were published on September 7, 2001. See Antidumping Duty Orders: Steel Concrete Reinforcing Bars From Belarus, Indonesia, Latvia, Moldova, People's Republic of China, Poland, Republic of Korea and Ukraine, 66 FR 46777 (September 7, 2001).¹

¹ On August 9, 2007, the Department revoked the antidumping duty order on steel concrete reinforcing bars with respect to the Republic of Korea. See Steel Concrete Reinforcing Bars From South Korea: Revocation of Antidumping Duty Order, 72 FR 44830 (August 9, 2007).

On July 2, 2012, the Department initiated the second sunset reviews of these orders, pursuant to section 751(c) of the Tariff Act of 1930, as amended (“the Act”). See Initiation of Five-Year (“Sunset”) Reviews, 77 FR 39218 (July 2, 2012) (“notice of initiation”). The Department received a notice of intent to participate from the following domestic parties: The Rebar Trade Action Coalition (“RTAC”) and its individual members, Nucor Corporation, Gerdau Long Steel North America, Cascade Steel Rolling Mills, Inc., and Commercial Metals Company (collectively, “domestic interested parties”), within the deadline specified in 19 CFR 351.218(d)(1)(i). Each individual member of the RTAC is a manufacturer of a domestic-like product in the United States and, accordingly, is a domestic interested party pursuant to section 771(9)(C) of the Act.

On July 30, 2012, the Department received adequate substantive responses to the notice of initiation from the domestic interested parties within the 30-day deadline specified in 19 CFR 351.218(d)(3)(i). We received no responses from respondent interested parties with respect to any of the orders covered by these sunset reviews. As a result, pursuant to 19 CFR 351.218(e)(1)(ii)(C)(2), the Department is conducting expedited (120-day) sunset reviews of the antidumping duty orders for Belarus, Indonesia, Latvia, Moldova, Poland, the PRC, and Ukraine.

Scope of the Orders

The product covered by the orders is all steel concrete reinforcing bars sold in straight lengths, currently classifiable in the Harmonized Tariff Schedule of the United States (“HTSUS”) under item numbers 7214.20.00, 7228.30.8050, 7222.11.0050, 7222.30.0000, 7228.60.6000, 7228.20.1000, or any other tariff item number. Specifically excluded are plain rounds (i.e., non deformed or smooth bars) and rebar that has been further processed through bending or coating.

Although the HTSUS item numbers are provided for convenience and customs purposes, the written description of the scope of the orders remains dispositive.

Analysis of Comments Received

All issues raised in these reviews are addressed in the Issues and Decision Memorandum (“Decision Memorandum”) from Christian Marsh, Deputy Assistant Secretary for Antidumping and Countervailing Duty Operations, to Paul Piquado, Assistant Secretary for Import Administration, dated November 1, 2012, which is hereby adopted by this notice. The issues discussed in the Decision Memorandum include the likelihood of continuation or recurrence of dumping and the magnitude of the margins likely to prevail if the orders were revoked. Parties can find a complete discussion of all issues raised in these reviews and the corresponding recommendations in this public memorandum, which is on file electronically via Import Administration's Antidumping and Countervailing Duty Centralized Electronic Service System (“IA ACCESS”). IA ACCESS is available to registered users at http://iaaccess.trade.gov and in the Central Records Unit in Room 7046 of the main Commerce building. In addition, a complete version of the Decision Memorandum can be accessed directly on the Internet at http://ia.ita.doc.gov/ia/. The signed Decision Memorandum and electronic versions of the Decision Memorandum are identical in content.

Final Results of Reviews

Pursuant to sections 752(c)(1) and (3) of the Act, we determine that revocation of the antidumping duty orders on steel concrete reinforcing bars from Belarus, Indonesia, Latvia, Moldova, Poland, the PRC and Ukraine would be likely to lead to continuation or recurrence of dumping at the following weighted-average percentage margins:

Manufacturers/exporters/ producers | Weighted-average margin (percent)
Belarus
Belarus-Wide Rate | 114.53
Indonesia
PT Gunung Gahapi Sakti | 71.01
PT Bhirma Steel | 71.01
Krakatau Wajatama | 71.01
PT Jakarta Steel Perdana Industri | 71.01
PT Hanil Jaya Metal Works | 71.01
PT Pulogadung Steel | 71.01
PT Jakarta Cakra Tunggal | 71.01
PT The Master Steel Manufacturing Co. | 71.01
All Others Rate | 60.46
Latvia
Joint Stock Company Liepajas Metalurgs | 16.99
All Others Rate | 16.99
Moldova
Moldova-Wide Rate | 232.86
Poland
Stalexport | 52.07
All Others Rate | 47.13
PRC
Laiwu Steel Group | 133.00
PRC-Wide Rate | 133.00
Ukraine
All Others Rate | 41.69

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(c), and 777(i)(1) of the Act.

Dated: November 1, 2012.
Paul Piquado,
Assistant Secretary for Import Administration.

[FR Doc. 2012-28480 Filed 11-21-12; 8:45 am]

BILLING CODE 3510-DS-P